FEDERAL COMMUNICATIONS COMMISSION

47 CFR Part 73

[DA 00-1312; MM Docket No. 95-88; RM-8641, RM-8688, RM-8689]

Radio Broadcasting Services; Rose Hill, Trenton, and Aurora, NC

AGENCY: Federal Communications Commission.

ACTION: Final rule; petition for reconsideration.

SUMMARY: This document denies the petition for reconsideration and supplement to petition for reconsideration filed by Conner Media Corporation of the Report and Order, 61 FR 66618 (December 18, 1996) which allotted Channel 283A to Aurora, North Carolina, and denied a mutually exclusive proposal by Station WBSY(FM), Channel 284A, Rose Hill, NC to substitute Channel 284C2 for Channel 284A, to reallot the upgraded Channel to Trenton, NC, and to modify the license for Station WBSY (FM) accordingly. The document affirms the Report and Order's decision not to use an alternate channel to remove the conflict between the competing proposals because of a short spacing to a vacant allotment.

FOR FURTHER INFORMATION CONTACT: Arthur D. Scrutchins, Mass Media Bureau, (202) 418-2180.

SUPPLEMENTARY INFORMATION: This is a synopsis of the Commission's Memorandum Opinion and Order, MM Docket No. 95-88, adopted June 9, 2000 and released June 16, 2000. The full text of this Commission decision is available for inspection and copying during normal business hours in the FCC Reference Information Center (Room CY-A257), at its headquarters, 445 12th Street, S.W. Washington, D.C. The complete text of this decision may also be purchased from the Commission's copy contractors, International Transcription Service, Inc., (202) 857-3800, 1231 20th, N.W. Washington, D.C. 20036.

Federal Communications Commission.
John A. Karousos,
Chief, Allocations Branch, Policy and Rules Division, Mass Media Bureau.

[FR Doc. 00-18345 Filed 7-19-00; 8:45 am]

BILLING CODE 6712-01-P